DEPARTMENT OF COMMERCE

International Trade Administration

[A-570-020]

Melamine From the People's Republic of China: Postponement of Final Determination of Sales at Less Than Fair Value

AGENCY: Enforcement and Compliance, International Trade Administration, Department of Commerce.

SUMMARY: The Department of Commerce (“Department”) is postponing the deadline for issuing the final determination in the less-than-fair-value (“LTFV”) investigation of melamine from the People's Republic of China (“PRC”) and is extending the provisional measures from a four-month period to a period not more than six months in duration.

DATES: Effective date: July 2, 2015.

FOR FURTHER INFORMATION CONTACT: James Terpstra at (202) 482-3965, Antidumping and Countervailing Duty Operations, Enforcement and Compliance, International Trade Administration, U.S. Department of Commerce, 14th Street and Constitution Avenue NW., Washington, DC 20230.

SUPPLEMENTARY INFORMATION: On December 9, 2014, the Department published a notice of initiation of the LTFV investigations of melamine from the PRC and Trinidad and Tobago.¹ The period of investigation is April 1, 2014, through September 30, 2014. On June 18, 2015, the Department published its affirmative Preliminary Determination in the LTFV investigation of melamine from the PRC.² On June 5, 2015, Allied Chemicals Inc. (“Allied Chemicals”) and Sichuan Golden-Elephant Sincerity Chemical Co., Ltd. (“Golden Elephant”), mandatory respondents in this investigation, requested that the Department postpone its final determination by 60 days (i.e., to 135 days after publication of the Preliminary Determination).³ On June 9, 2015, Allied Chemicals and Golden Elephant agreed to extend the application of the provisional measures prescribed under section 733(d) of the Act and 19 CFR 351.210(e)(2), from a four-month period to a period not to exceed six months.⁴

¹ See Melamine from the People's Republic of China and Trinidad and Tobago: Initiation of Antidumping Duty Investigations, 79 FR 73037 (December 9, 2014).

² See Melamine from the People's Republic of China: Preliminary Determinations of Sales at Less Than Fair Value 80 FR 34891 (June 18, 2015) (“Preliminary Determination”).

³ See the letter from Allied Chemicals and Golden Elephant entitled, “Melamine from the People's Republic of China; Respondents' Request to Extend the Due Date for the Preliminary Determination,” dated June 5, 2015. Note that, although respondents' June 5, 2015, letter was mistitled, respondents clearly indicated on page two of the submission that they were requesting postponement of the final determination.

⁴ See the letter from Allied Chemicals and Golden Elephant entitled, “Melamine from the People's Republic of China; Clarification of Respondents' June 5, 2015 Request to Extend the Due Date for the Final Determination,” dated June 9, 2015.

Postponement of Final Determination

Section 735(a)(2) of the Tariff Act of 1930, as amended (“the Act”), provides that a final determination may be postponed until not later than 135 days after the date of the publication of the preliminary determination if, in the event of an affirmative preliminary determination, a request for such postponement is made by exporters who account for a significant proportion of exports of the subject merchandise, or in the event of a negative preliminary determination, a request for such postponement is made by the petitioner. Section 351.210(e)(2) of the Department's regulations requires that requests by respondents for postponement of a final determination be accompanied by a request for extension of provisional measures from a four-month period to a period not more than six months in duration.

In accordance with section 735(a)(2)(A) of the Act and 19 CFR 351.210(b)(2)(ii), because (1) our preliminary determination was affirmative; (2) the requesting producers or exporters account for a significant proportion of exports of the subject merchandise from their respective country; and (3) no compelling reasons for denial exist, we are postponing the final determination until no later than 135 days after the publication of the Preliminary Determination (i.e., to October 31, 2015) and extending the provisional measures from a four-month period to a period not greater than six months. Accordingly, we will issue our final determination no later than 135 days after the date of publication of the Preliminary Determination, pursuant to section 735(a)(2) of the Act. Because October 31, 2015, is a Saturday, the actual due date for the final determination of this LTFV investigation will be Monday, November 2, 2015.⁵

⁵ See Notice of Clarification: Application of “Next Business Day” Rule for Administrative Determination Deadlines Pursuant to the Tariff Act of 1930, As Amended, 70 FR 24533 (May 10, 2005).

This notice is issued and published pursuant to section 735(a)(2)(A) of the Act and 19 CFR 351.210(g).

Dated: June 25, 2015.
Paul Piquado,
Assistant Secretary for Enforcement and Compliance.

[FR Doc. 2015-16375 Filed 7-1-15; 8:45 am]

BILLING CODE 3510-DS-P